DEPARTMENT OF STATE

[Public Notice 4055]

Bureau of Educational and Cultural Affairs Request for Grant Proposals: Mexico, Central America, and the Caribbean (MCAC) Regional Educational Advising Coordinator (REAC) Program

SUMMARY: The Educational Information and Resources Branch (ECA/A/S/A) of the Bureau of Educational and Cultural Affairs (ECA) announces an open competition for the Mexico, Central America, and the Caribbean (MCAC) Regional Educational Advising Coordinator (REAC) Program. Public and private non-profit organizations meeting the provisions described in Internal Revenue Code section 26 U.S.C. 501(c)(3) may submit proposals. The REAC organization facilitates the provision of expertise and information through the regional coordinator to educational advisers in the region in consultation with U.S. Embassies and ECA. The REAC program works to support educational information centers in the region and to assist in their professional development. These activities include the sharing of information and materials with the region's advising centers, communicating trends in U.S. education and regional exchange, disseminating information on the latest developments in technology and providing direct guidance through site visits, internships, training and workshops in Mexico, Central America and the Caribbean. The region contains 46 advising centers in the U.S. Department of State-affiliated network. These centers provide comprehensive and unbiased information to interested students, scholars, and other individuals about study opportunities in the U.S.

Program Information

Overview

The Regional Educational Advising Coordinator (REAC) organization will be responsible for providing on-site technical assistance and training to centers in the Mexico, Central America, and the Caribbean Region (MCAC) and for coordinating the establishment of any new advising centers, as directed by individual embassies in consultation with the Branch. The REAC will support all U.S. Department of State-affiliated centers located in the following countries and locations: Mexico, Belize, Costa Rica, Cuba, El Salvador, Guatemala, Honduras, Nicaragua, Panama, Guyana, Suriname, Anguilla, Antigua, Aruba, Bahamas, Barbados, British Virgin Islands, Cayman Islands, Dominica, Dominican Republic, Grenada, Haiti, Jamaica, Martinique, Montserrat, Nevis, St. Kitts, St. Lucia, St. Vincent and the Grenadines, and Trinidad and Tobago. The MCAC REAC organization should work impartially with all non-governmental organizations, binational centers (such as the Instituto Guatemalteco-Americano or Centro Cultural Costarricense-Norteamericano), Public Affairs Sections located in U.S. embassies and consulates overseas, universities, libraries, etc. involved in educational advising to enable advisers to provide accurate and timely information on U.S. higher educational opportunities. The REAC must work closely with the Branch and Public Affairs Sections throughout the region to help establish priorities for educational advising. Responsibilities for organization for the MCAC REAC will include:

1. Making site visits to advising centers to provide training and conduct needs assessment;

2. Providing information and guidance in response to specific questions related to educational advising, as requested by advising centers;

3. Production of a newsletter, electronic bulletin board or other methods of sharing information among centers, and oversight of regional listserv REAC-MCAC;

4. Organization and oversight of internship training programs for beginning and intermediate advisers to be held in one of the larger, well-staffed, well-trained advising centers, as necessary;

5. Conducting in-country and sub-regional workshops as needed, as determined in consultation with Branch and Public Affairs Sections;

6. Consultations with Embassies and the Branch on the direction and priorities of educational advising;

7. Evaluation and Follow-up

Qualifications required for the coordinator position within the REAC organization include all of the following:

1. Fluent Spanish language ability;

2. Knowledge of educational advising programs and centers;

3. Experience living and traveling in the region, and a demonstrated willingness and ability to undertake an ambitious travel schedule;

4. Knowledge of the system of higher education in the U.S., including such issues as accreditation, distance learning, the admissions process, standardized testing, and financial aid;

5. Organizational skills needed to administer both the internship programs and conferences;

6. Excellent time management skills, communication skills, and computer/internet/listserv skills;

7. Experience in public speaking and in professional training activities;

8. U.S. Citizenship.

The coordinator should plan a rigorous travel schedule at the beginning of his or her tenure in consultation with the Branch and with advising centers/embassies to be visited, in order to conduct site visits consistent with Branch and Public Affairs Section priorities. The proposal should contain a tentative travel plan and should clearly delineate the ability of the organization to make reliable travel arrangements under adverse conditions as well as the willingness and ability of the REAC to undertake a rigorous itinerary.

The proposal should describe all members of the REAC organization's proposed program staff, clearly demonstrating appropriate expertise. Provisions which the organization will take to maintain communication between the coordinator, the advising centers, and ECA/A/S/A should be clearly described.

Guidelines

Pending awarding of funds, the period of this grant is October 1, 2002 to September 30, 2003.

Final awards cannot be made until funds have been appropriated by Congress, allocated and committed through internal ECA procedures.

Programs must comply with J-1 visa regulations. Please refer to Solicitation Package for further information.

Budget Guuidelines

Applicants must submit a comprehensive budget for the entire program, not to exceed $56,000. There must be a summary budget as well as breakdowns reflecting both administrative and program budgets. Applicants may provide separate sub-budgets for each program component, phase, location, or activity to provide clarification. The Bureau encourages applicants to provide maximum levels of cost-sharing and funding from private sources in support of its programs.

Allowable costs for the program include the following:

(1) Salary and benefits

(2) Budget for REAC travel and per diem

(3) Costs for training materials

(4) Costs for training events

(5) Office supplies and expenses

(6) Indirect costs

Please refer to the Solicitation Package for complete budget guidelines and formatting instructions.

Announcement Title and Number: All correspondence with the Bureau concerning this RFGP should reference the above title and number ECA/A/S/A-03-02.

FOR FURTHER INFORMATION CONTACT: The Educational Information and Resources Branch, ECA/A/S/A, room 349 U.S. Department of State, 301 4th Street, SW., Washington, DC 20547, telephone (202) 619-5434, fax (202) 401-1433, ssheehan@pd.state.gov to request a Solicitation Package. The Solicitation Package contains detailed award criteria, required application forms, specific budget instructions, and standard guidelines for proposal preparation. Please specify Bureau Program Officer Sharen Sheehan on all other inquiries and correspondence.

Please read the complete Federal Register announcement before sending inquiries or submitting proposals. Once the RFGP deadline has passed, Bureau staff may not discuss this competition with applicants until the proposal review process has been completed.

To Download a Solicitation Package via Internet

The entire Solicitation Package may be downloaded from the Bureau's website at http://exchanges.state.gov/education/RFGPs. Please read all information before downloading.

Deadline for Proposals

All proposal copies must be received at the Bureau of Educational and Cultural Affairs by 5 p.m. Washington, DC time on Thursday, August 1, 2002. Faxed documents will not be accepted at any time. Documents postmarked the due date but received on a later date will not be accepted. Each applicant must ensure that the proposals are received by the above deadline.

Applicants must follow all instructions in the Solicitation Package. The original and 6 copies of the application should be sent to: U.S. Department of State, SA-44, Bureau of Educational and Cultural Affairs, Ref.: ECA/A/S/A-03-02, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs section at the U.S. Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Program planning: Detailed agenda and relevant work plan should demonstrate substantive undertakings and logistical capacity. Agenda and plan should adhere to the program overview and guidelines described above.

2. Ability to achieve program objectives: Objectives should be reasonable, feasible, and flexible. Proposals should clearly demonstrate how the institution will meet the program's objectives and plan.

3. Support of Diversity: Proposals should demonstrate substantive support of the Bureau's policy on diversity. Achievable and relevant features should be cited in both program administration (selection of participants, program venue and program evaluation) and program content (orientation and wrap-up sessions, program meetings, resource materials and follow-up activities).

4. Institutional Capacity: Proposed personnel and institutional resources should be adequate and appropriate to achieve the program or project's goals.

5. Institution's Record/Ability: Proposals should demonstrate an institutional record of successful exchange programs, including responsible fiscal management and full compliance with all reporting requirements for past Bureau grants as determined by Bureau Grant Staff. The Bureau will consider the past performance of prior recipients and the demonstrated potential of new applicants.

6. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

7. Cost-effectiveness: The overhead and administrative components of the proposal should be kept as low as possible. All other items should be necessary and appropriate.

8. Cost-sharing: Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * *and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 25, 2002.
Rick A. Ruth,
Principal Deputy Assistant Secretary, Bureau of Educational and Cultural Affairs, Department of State.

[FR Doc. 02-16156 Filed 6-26-02; 8:45 am]

BILLING CODE 4710-05-P